DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA). The purpose of this notice is to announce publicly the environmental decisions by FTA on the subject project and to activate the limitation on any claims that may challenge these final environmental actions.

DATES: By this notice, FTA is advising the public of final agency actions subject to 23 U.S.C. 139(l). A claim seeking judicial review of FTA actions announced herein for the listed public transportation project will be barred unless the claim is filed on or before October 18, 2021.

FOR FURTHER INFORMATION CONTACT: Micah M. Miller, Regional Counsel, Office of Chief Counsel, (404) 865-5474 or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions by issuing certain approvals for the public transportation project listed below. The actions on the project, as well as the laws under which such actions were taken, are described in the documentation issued in connection with the project to comply with the National Environmental Policy Act (NEPA) and in other documents in the FTA environmental project file for the project. Interested parties may contact either the project sponsor or the relevant FTA Regional Office for more information. Contact information for FTA's Regional Offices may be found at https://www.fta.dot.gov.

This notice applies to all FTA decisions on the listed project as of the issuance date of this notice and all laws under which such actions were taken, including, but not limited to, NEPA [42 U.S.C. 4321-4375], Section 4(f) requirements [23 U.S.C. 138, 49 U.S.C. 303], Section 106 of the National Historic Preservation Act [54 U.S.C. 306108], Endangered Species Act [16 U.S.C. 1531], Clean Water Act [33 U.S.C. 1251], the Uniform Relocation and Real Property Acquisition Policies Act [42 U.S.C. 4601], and the Clean Air Act [42 U.S.C. 401-7671q]. This notice does not, however, alter or extend the limitation period for challenges of project decisions subject to previous notices published in the Federal Register.

The project and actions that are the subject of this notice follow: Project name and location: Dallas CBD Second Light Rail Alignment (D2 Subway) Project, City of Dallas, Texas. Project Sponsor: Dallas Area Rapid Transit (DART), City of Dallas, Texas. Project description: The project includes a 2.4-mile light rail transit (LRT) alignment extending from the existing Victory Station through the core of downtown Dallas, reconnecting to the Green Line along North Good Latimer Expressway in the Deep Ellum Area. The Project would include four new stations and would relocate the existing Deep Ellum Station approximately one block to the north, renamed as the Live Oak Station, due to the new Green Line connection. The alignment would be a combination of at-grade and below-grade sections, with the below-grade subway segment running primarily under Griffin and Commerce Streets. Final agency action: Section 4(f) use determination; executed Section 106 Programmatic Agreement, dated December 21, 2020; Dallas CBD Second Light Rail Alignment (D2 Subway) Project Combined Final Environmental Impact Statement (FEIS)/Record of Decision (ROD), dated April 9, 2021. Supporting documentation: Dallas CBD Second Light Rail Alignment (D2 Subway) Project Supplement Draft Environmental Impact Statement (SDEIS), dated, May 05, 2020. The Combined FEIS/ROD and associated documents can be viewed and downloaded from: www.DART.org/D2.

(Authority: 23 U.S.C. 139(l)(1))

Mark A. Ferroni,
Deputy Associate Administrator for Planning and Environment.

[FR Doc. 2021-10572 Filed 5-18-21; 8:45 am]

BILLING CODE P